ENVIRONMENTAL PROTECTION AGENCY

40 CFR Part 52

[EPA-R06-OAR-2005-TX-0015; FRL-8244-3]

Approval and Promulgation of Air Quality Implementation Plans; TX; Revisions To Control Volatile Organic Compound Emissions; Volatile Organic Compound Control for El Paso, Gregg, Nueces, and Victoria Counties and the Ozone Standard Nonattainment Areas of Beaumont/Port Arthur, Dallas/Fort Worth, and Houston/Galveston

AGENCY: Environmental Protection Agency (EPA).

ACTION: Withdrawal of direct final rule.

SUMMARY: On September 28, 2006 (71 FR 56872), EPA published a direct final rule approving Texas State Implementation Plan (SIP) revisions that pertain to regulations to control Volatile Organic Compound (VOC) emissions from facilities in Texas. The direct final action was published without prior proposal because EPA anticipated no adverse comment. EPA stated in the direct final rule that if EPA received adverse comment by October 30, 2006, EPA would publish a timely withdrawal in the Federal Register. EPA subsequently received a timely adverse comment on the direct final rule. Therefore, EPA is withdrawing the direct final approval. EPA will address the comment in a subsequent final action based on the parallel proposal also published on September 28, 2006 (71 FR 56920). As stated in the parallel proposal, EPA will not institute a second comment period on this action.

DATES: The direct final rule published on September 28, 2006 (71 FR 56872), is withdrawn as of November 21, 2006.

FOR FURTHER INFORMATION CONTACT: Carl Young, Air Planning Section (6PD-L), Environmental Protection Agency, Region 6, 1445 Ross Avenue, Suite 700, Dallas, Texas 75202-2733, telephone 214-665-6645; fax number 214-665-7263; e-mail address young.carl@epa.gov.

List of Subjects in 40 CFR Part 52

Environmental protection, Air pollution control, Intergovernmental relations, Ozone, Reporting and recordkeeping requirements, Volatile organic compounds.

Dated: November 14, 2006.
Lawrence E. Starfield,
Acting Regional Administrator, Region 6.

Accordingly, the amendments to 40 CFR 52.2270 published in the Federal Register on September 28, 2006 (71 FR 56872), which were to become effective on November 27, 2006, are withdrawn.

[FR Doc. E6-19639 Filed 11-20-06; 8:45 am]

BILLING CODE 6560-50-P